DEPARTMENT OF INTERIOR

Bureau of Indian Affairs

[120A2100DD/AAKC001030/A0A501010.999900253G]

Land Acquisitions; The Pawnee Nation of Oklahoma

AGENCY: Bureau of Indian Affairs, Interior.

ACTION: Notice.

SUMMARY: The Assistant Secretary—Indian Affairs made a final agency determination to acquire 20.00 acres, more or less, of land near the City of Pawnee, Pawnee County, Oklahoma, (Site) in trust for the Pawnee Nation of Oklahoma for gaming and other purposes on October 7, 2019.

FOR FURTHER INFORMATION CONTACT: Ms. Paula L. Hart, Director, Office of Indian Gaming, Bureau of Indian Affairs, MS-3657 MIB, 1849 C Street NW, Washington, DC 20240, telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On October 7, 2019, the Assistant Secretary—Indian Affairs made a final agency determination to transfer the Site, consisting of approximately 20.00 acres, more or less, into trust for the Pawnee Nation of Oklahoma (Nation) pursuant to the Indian Reorganization Act, 25 U.S.C. 5108. The Assistant Secretary—Indian Affairs also determined that the Site meets the requirements of the Indian Gaming Regulatory Act, see 25 U.S.C. 2719(a)(2)(A)(i).

The Assistant Secretary—Indian Affairs, on behalf of the Secretary of the Interior, will immediately acquire title to the Site in the name of the United States of America in trust for the Nation upon fulfillment of Departmental requirements.

The 20.00 acres, more or less, are located in Section 8, Township 20 North, Range 05 East, Pawnee County, Oklahoma, and are described as follows:

A part of the NE/4 of the NE/4 of Section 8, Township 20 North, Range 5 East, I.M., Pawnee County, Oklahoma; being more particularly described as follows:

Commencing at the Northeast corner of Section 8; Thence S89°24′00″ W along the North line of the NE/4 of the NE/4 a distance of 60.00 feet to the Northwest corner of a tract recorded in Book 67 Misc. Page 248 for a point of beginning; Thence S00°08′16″ E and parallel with the East line of the NE/4 of the NE/4 along the West line of the tract recorded in Book 67 Misc. Page 248 a distance of 983.03 feet to the Northeast corner of the highway easement recorded in Book 139 Page 270; Thence S89°37′23″ W along the North line of the highway easement recorded in Book 139 Page 270 a distance of 40.00 feet to the Northwest corner of the said highway easement; Thence S00°08′16″ E along the West line of the highway easement recorded in Book 139 Page 270 a distance of 350.00 feet to the Southwest corner of the said highway easement and on the South line of the NE/4 of the NE/4; Thence S89°37′23″ W along the South line of the NE/4 of the NE/4 a distance of 624.70 feet; Thence N00°08′16″ W and parallel with the East line of the NE/4 of the NE/4 a distance of 1330.44 feet to a point on the North line of the NE/4 of the NE/4; Thence N89°24′00″ E along the north line of the NE/4 of the NE/4 a distance of 664.72 feet to the point of beginning.

More particularly described as:

A tract of land located in the Northeast quarter of the Northeast quarter (NE/4-NE/4) of Section Eight (8), Township Twenty (20) North, Range Five (5) East of the Indian Meridian, Pawnee County, Oklahoma, with a geodetic basis of bearing of N89°24′26″ E along the North Section line and more particularly described as: Commencing at a 1/2″ iron pin at the Northeast corner (NE/C) of said NE/4 NE/4; Thence S89°24′26″ W along the North section line for a distance of 60.00 feet to the point of beginning; Thence S00°08′08″ E and parallel with the East line of the NE/4 of the NE/4 for a distance of 983.03 feet to the Northeast corner of the highway easement; Thence S89°37′31″ W for a distance of 40.00 feet to the Northwest corner of said highway easement; Thence S00°08′08″ E along the West side of said highway easement for a distance of 350.00 feet to the Southwest corner of said highway easement and to a point on the South line of the NE/4 of the NE/4; Thence S89°37′31″ W along the South line of the NE/4 of the NE/4 for a distance of 624.70 feet; Thence N00°08′08″ W and parallel with the East line of the NE/4 of the NE/4 for a distance of 1330.51 feet to a point on the North line of the NE/4 of the NE/4; Thence N89°24′26″ E along the North line of the NE/4 of the NE/4 for a distance of 664.72 feet to the point of beginning, containing 20.00 acres, more or less, as to surface rights only, Fee-to-Trust Case No. B-812-2016-0001.

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Dated: October 7, 2019.
Tara Sweeney,
Assistant Secretary—Indian Affairs.

[FR Doc. 2019-23834 Filed 10-31-19; 8:45 am]

BILLING CODE 4337-15-P